CONSUMER PRODUCT SAFETY COMMISSION

Agency Information Collection Activities; Submission for Office of Management and Budget Review; Comment Request; Standard for the Flammability of Mattresses and Mattress Pads

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995 (“PRA”).

DATES: Fax written comments on the collection of information by October 1, 2010.

ADDRESSES: To ensure that comments on the information collection are received, OMB recommends that written comments be faxed to the Office of Information and Regulatory Affairs, OMB, Attn: CPSC Desk Officer, fax: 202-395-6974, or e-mailed to oira_submission@omb.eop.gov. Written comments should be captioned “Standard for the Flammability of Mattresses and Mattress Pads.” All comments should be identified with the OMB Control Number 3041-0014. In addition, written comments should also be submitted by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: In compliance with 44 U.S.C. 3507, the CPSC has submitted the following proposed collection of information to OMB for review and clearance.

Standard for the Flammability of Mattresses and Mattress Pads—(OMB Control Number 3041-0014-Extention). The Standard for the Flammability of Mattresses and Mattress Pads was promulgated under section 4 of the Flammable Fabrics Act (“FFA”), 15 U.S.C. 1193, to reduce unreasonable risks of burn injuries and deaths from fires associated with mattresses and mattress pads. The standard prescribes a test to assure that a mattress or mattress pad will resist ignition from a smoldering cigarette. The standard requires manufacturers to perform prototype tests of each combination of materials and construction methods used to produce mattresses or mattress pads and to obtain acceptable results from such testing. Manufacturers and importers are required to maintain the records and test results specified under the standard.

In addition, the Standard for the Flammability (Open Flame) of Mattress Sets was promulgated under section 4 of the FFA, 16 CFR part 1633, to reduce deaths and injuries related to mattress fires, particularly those ignited by open flame sources such as lighters, candles and matches. The standard established new performance requirements for mattresses and mattress sets that will generate a smaller size fire from open flame source ignitions. Part 1633 also contains recordkeeping requirements to document compliance with the standard. The testing and recordkeeping requirements under 16 CFR part 1633 do not replace the testing and recordkeeping requirements under 16 CFR part 1632.

In May 2006, an Interim Enforcement Policy for Mattresses subject to 16 CFR parts 1632 and 1633, effective May 1, 2006, was issued that reduced prototype surface testing and recordkeeping requirements from six mattress surfaces to two mattress surfaces for each new prototype created after March 15, 2006. Manufacturers that avail themselves of the reduced testing program will have to maintain records on the cigarette test performed, but they will be testing only two surfaces rather than the required six surfaces. The policy is available at the CPSC's Web site at www.cpsc.gov/BUSINFO/Interimmattress.pdf. Mattress prototypes created before March 15, 2006, are subject to the full requirements of 16 CFR part 1632. In addition, mattress pads are not subject to this policy and must continue to adhere to all the requirements set forth in 16 CFR part 1632.

In the Federal Register of May 18, 2010 (75 FR 27733), the CPSC published a 60-day notice requesting public comment on the proposed collection of information. No comments were received.

We estimate the burden of this collection of information as follows. The CPSC staff estimates that there are 671 respondents (571 establishments producing conventional mattresses and 100 establishments producing non-conventional mattresses in the United States, a total of 671). It is estimated that each respondent will spend 26 hours for testing and recordkeeping annually for a total of 17,446 hours (671 firms × 26 hours = 17,446 total hours requested). The annualized cost to respondents would be approximately $993,201 based on 17,446 hours times $56.93 per hour (based on total compensation of all management, professional, and related occupations in goods-producing industries in the United States, September 2009, Bureau of Labor Statistics).

The estimated annual cost of the information collection requirements to the Federal government is approximately $142,000. This sum includes 10 staff months and travel costs expended for examination of the information in records required to be maintained by the standard and enforcement rule.

Dated: August 26, 2010.
Alberta Mills,
Acting Secretary, Consumer Product Safety Commission.

[FR Doc. 2010-21895 Filed 8-31-10; 8:45 am]

BILLING CODE 6355-01-P